DEPARTMENT OF VETERANS AFFAIRS

Advisory Committee on Minority Veterans; Notice of Meeting

The Department of Veterans Affairs (VA) gives notice under Public Law 92-463 (Federal Advisory Committee Act) that a meeting of the Advisory Committee on Minority Veterans will be held from October 24-25, 2006 in Anchorage, Alaska, at various sites within the VA Medical Center (VAMC), 2925 DeBarr Road. The meeting is open to the public.

The purpose of the Committee is to advise the Secretary on the Administration of VA benefits and services to minority veterans, to assess the needs of minority veterans and to evaluate whether VA compensation, medical and rehabilitation services, outreach, and other programs are meeting those needs. The Committee will make recommendations to the Secretary regarding such activities.

On October 24, the Committee will meet from 8 a.m. to 12 noon (Suite 3614) in the VAMC. The Committee will hold panel discussions with key staff members from the Alaska VA Health Center Care System, Regional Office, and Fort Richardson National Cemetery on services and benefit delivery challenges, successes and concerns for the Anchorage area veterans.

On October 25, the Committee will meet from 8 a.m. to 12 noon at the Alaska Native Medical Center located on 4315 Diplomacy Drive (Room 1&2) to hold a panel discussion with Native tribal leadership on their concerns, assessments and observations of Alaskan Native veteran's needs. Following this discussion, the Committee will hold a panel discussion with area Veterans Service Organizations at Northway Mall, 3101 Penland Parkway (Suite A-12) beginning at 3:30 p.m. and adjourning at 4:30 p.m. The Committee will hold a town hall meeting at the Anchorage Marriott Downtown, 820 West 7th Avenue in the Juneau/Haines conference rooms beginning at 6:30 p.m. and adjourning at 8:30 p.m.

The Committee will accept written comments from interested parties on issues outlined in the meeting agenda, as well as other issues affecting minority veterans. Such comments should be referred to the Committee at the following address; Advisory Committee on Minority Veterans, Center for Minority Veterans (00M), U.S. Department of Veterans Affairs, 810 Vermont Avenue, NW., Washington, DC 20420.

For additional information about the meeting, please contact Ms. Juanita Mullen or Ms. Renaee Allen at (202) 273-6708.

Dated: September 15, 2006.
By Direction of the Secretary.
E. Philip Riggin,
Committee Management Officer.

[FR Doc. 06-8108 Filed 9-21-06; 8:45 am]

BILLING CODE 8320-01-M